DEPARTMENT OF ENERGY

Federal Energy Regulatory Commission

[Docket No. RM01-12-000]

Electricity Market Design and Structure; Notice of Workshop Organization and Agenda

October 5, 2001.

As announced in the Notice of Workshops issued on September 28, 2001, a series of commissioner-led workshops is scheduled for October 15 through October 19, 2001. The workshops will begin at 10:00 a.m., in the Commission meeting room at the Federal Energy Regulatory Commission, 888 First Street, NE., Washington, DC. The purpose of the workshops is to discuss core issues related to the development of efficient electric markets in an era in which electric transmission systems will be operated by Regional Transmission Organizations.

The workshops are open for the public to attend. An agenda with workshop speakers is appended as Attachment A.

Although the Commission will specifically solicit public input in the rulemaking process that is likely to result from the workshops, those who wish to comment now may file written comments in this docket at any time before or within 15 days after the workshops are completed.

During the course of the workshops, it is possible that discussions may overlap with issues pending in the cases listed in Attachment B. The Commission will make every effort to prevent this from occurring. A transcript of the discussion will be placed in each of the listed dockets, if appropriate.

Filing Requirements for Paper and Electronic Filings

Comments, papers, or other documents related to this proceeding may be filed in paper format or electronically. Those filing electronically do not need to make a paper filing.

For paper filings, the original and 14 copies of the comments should be submitted to the Office of the Secretary, Federal Energy Regulatory Commission, 888 First Street, NE., Washington DC 20426 and should refer to Docket No. RM01-12-000.

Documents filed electronically via the Internet must be prepared in WordPerfect, MS Word, Portable Document Format, or ASCII format. To file the document, access the Commission's website at www.ferc.gov, click on “E-Filing” and then follow the instructions for each screen. First time users will have to establish a user name and password. The Commission will send an automatic acknowledgment to the sender's E-mail address upon receipt of comments. User assistance for electronic filing is available at 202-208-0258 or by E-mail to efiling@ferc.fed.us. Comments should not be submitted to the E-mail address.

All comments will be placed in the Commission's public files and will be available for inspection in the Commission's Public Reference Room at 888 First Street, NE., Washington DC 20426, during regular business hours. Additionally, all comments may be viewed, printed, or downloaded remotely via the Internet through FERC's Homepage using the RIMS link. User assistance for RIMS is available at 202-208-2222, or by E-mail to rimsmaster@ferc.fed.us.

Opportunities for Listening to and Viewing the Workshops Offsite and Obtaining a Transcript

The workshops will be transcribed. Those interested in obtaining transcripts should contact Ace Federal Reporters at 202-347-3700.

The Capitol Connection will broadcast the workshops live via the Internet and by phone. To find out more about The Capitol Connection's Internet and phone bridge, contact David Reininger or Julia Morelli at 703-993-3100 or go to www.capitolconnection.gmu.edu.

Live and archived audio of the workshops will also available for a fee via National Narrowcast Network. Live audio is available by telephone at 202-966-2211 and by subscription on the Internet at www.hearing.com. The Internet audio will be archived and available for listening after the event is completed. Billing is based on listening time.

Anyone interested in purchasing videotapes of the workshops should call VISCOM at 703-715-7999.

Questions about the conference program should be directed to: Saida Shaalan, Office of Markets, Tariffs, and Rates, Federal Energy Regulatory Commission, 888 First Street, NE., Washington, DC 20426, 202-208-0278, Saida.Shaalan@ferc.fed.us

Linwood A. Watson, Jr.,
Deputy Secretary.

Agenda

Note: The Commission workshops will start each day at 10 a.m. and end at 5 p.m. A lunch break will be taken.

Monday, October 15

Morning Session: RTO Markets and Design: Required RTO Markets

Peter Cramton, Professor, University of Maryland

Mark D. Kleinginna, Corporate Energy Director, Ormet Corporation

John Meyer, Vice President of Asset Commercialization, Reliant

John L. O'Neal, President, Mirant Mid-Atlantic

Roy J. Shanker, Ph.D.

State Commission Representative—To Be Named

Afternoon Session: RTO Markets and Design: Optional RTO Markets

Ed Cazalet, Chairman, Automated Power Exchange

Steven T. Naumann, Transmission Services Vice President, Commonwealth Edison

Richard J. Pierce, Jr., Lyle T. Alverson Research Professor of Law, George Washington University

Roy Thilly, President & CEO, Wisconsin Public Power, Inc.

Fiona Woolf, Head of the Electricity Group, CMS Cameron McKenna

State Commission Representative—To Be Named

Tuesday, October 16

Morning Session: Congestion Management and Transmission Rights

Reem J. Fahey, Director of Market Policy, Edison Mission Energy

Carol Guthrie, Group Manager for Electric Supply, Chevron

Shmuel Oren, Professor of Industrial Engineering and Operations Research, University of California Berkeley

Andrew Ott, General Manager of Markets Coordination, PJM Interconnection, LLC

Michael M. Schnitzer, Director, The NorthBridge Group

State Commission Representative—To Be Named

Afternoon Session: Planning and Expansion

Jose Delgado, President & CEO, American Transmission Company

Mark W. Maher, Senior Vice President, Transmission Business Line, Bonneville Power Administration

Laura Manz, Manager of Transmission Planning, PSE&G

Masheed Rosenquist, Director of Transmission Strategy, National Grid

Steve Walton, Enron

State Commission Representative—To Be Named

Wednesday, October 17

Morning Session: Standardizing RTO Tariffs

Ricky Biddle,Vice President, Planning Rates and Dispatching, Arkansas Electric Cooperative Corporation

Jim Caldwell, Policy Director, American Wind Energy Association

Peter Esposito, Senior Vice President & Regulatory Counsel, Dynegy

Glenn B. Ross, Director of Transmission Policy, Dominion Resources

Audrey Zibelman, Vice President Transmission, XCEL Energy

State Commission Representative—To Be Named

Afternoon Session: Cost Recovery Issues

Craig Baker, Senior Vice President of Regulation and Public Policy, AEP Services Corporation

Susan Kelly, Principal, Miller, Balis & O'Neil

William K. Newman, Senior Vice President, Transmission Planning & Operations, The Southern Company

Steve Ward, Public Advocate, Maine Consumer Counsel

Matthew Wright, Senior Vice President, Pacificorp

State Commission Representative—To Be Named

Thursday, October 18

Morning Session: Meeting with State Commissioners

State Commissions Representatives—To Be Named

Afternoon Session: Standardizing Markets, Business and Other Practices

Sarah Barpoulis, Senior Vice President, PG&E National Energy Group

William Boswell, Chairman, Board of Directors, GISB

David Christiano, Manager Electric System Control, City Utilities of Springfield, Missouri

Michael Kormos, General Manager of System Operations, PJM Interconnection, LLC

Marty Mennes, VP, Transmission, Operations and Planning, Florida Power & Light Company

State Commission Representative—To Be Named

Friday, October 19

Morning Session: Market Monitoring

Charles J. Cicchetti, Miller Chair in Government, Business and the Economy, University of Southern California

Marji Philips, Exelon Power Team

Sonny Popowski, The Consumer Advocate, Pennsylvania Office of Consumer Advocate

Craig R. Roach, Principal, Boston Pacific Company

Anjali Sheffrin, Director, Market Analysis, California ISO

State Commission Representative—To Be Named

Afternoon Session: Mitigation of Market Power

Richard Cowart, Director, The Regulatory Assistance Project

William Hall, Duke Energy

William W. Hogan, Professor of Public Policy and Administration, John F. Kennedy School of Government, Harvard University

Paul Joskow, Professor of Economics & Director, MIT Center for Environmental and Policy Research

Robert R. Nordhaus, Member, Van Ness Feldman, P.C.

State Commission Representative—To Be Named

PJM Interconnection, L.L.C., et al. | RT01-2-000
Allegheny Power | RT01-10-000
Duquesne Light Co. | RT01-13-000
Avista Corp. et al. | RT01-15-000
Southwest Power Pool, Inc. | RT01-34-000
Avista Corp. et al. | RT01-35-000
Arizona Public Service Co. et al. | RT01-44-000
GridFlorida LLC, et al. | RT01-67-000
GridSouth Transco L.L.C. | RT01-74-000
Entergy Services, Inc., et al. | RT01-75-000
Southern Company Services, Inc. | RT01-77-000
San Diego Gas & Electric Co. | RT01-82-000
Pacific Gas & Electric Co. | RT01-83-000
California ISO Corp. | RT01-85-000
Bangor Hydro-Electric Co., et al. | RT01-86-000
Midwest ISO | RT01-87-000
Alliance Companies | RT01-88-000
Southern California Edison Co. | RT01-92-000
California Power Exchange Corp. | RT01-93-000
NSTAR Services Co. | RT01-94-000
New York Independent System Operator, Inc. | RT01-95-000
PJM Interconnection, L.L.C. | RT01-98-000
Regional Transmission Organizations | RT01-99-000
Regional Transmission Organizations | RT01-100-000
Open-Access Same Time Information Systems, Phase II | RM00-10-000
Alliance Companies | ER99-3144-000
American Electric Power Service Co. | EC99-80-000
Illinois Power Co. | ER01-123-000
Commonwealth Edison Co. | ER01-780-000
Ameren Corp. | ER01-966-000

[FR Doc. 01-25779 Filed 10-12-01; 8:45 am]

BILLING CODE 6717-01-P